FEDERAL FINANCIAL INSTITUTIONS EXAMINATION COUNCIL

[Docket No. AS20-01]

Appraisal Subcommittee Notice of Meeting

AGENCY: Appraisal Subcommittee of the Federal Financial Institutions Examination Council.

ACTION: Notice of Meeting.

Description: In accordance with Section 1104 (b) of Title XI of the Financial Institutions Reform, Recovery, and Enforcement Act of 1989, as amended, notice is hereby given that the Appraisal Subcommittee (ASC) will meet in closed session:

Location: Partnership for Public Service, 1100 New York Avenue NW, Suite 200 East, Washington, DC 20005.

Date: February 12, 2020.

Time: 10:00 a.m.

Status: Closed.

Matters to be Considered: Preliminary discussion of State Compliance Review.

Dated: January 29, 2020.
James R. Park,
Executive Director.

[FR Doc. 2020-01985 Filed 1-31-20; 8:45 am]

BILLING CODE 6700-01-P